ENVIRONMENTAL PROTECTION AGENCY

40 CFR Part 52

[PA 120-4110a ; FRL-6961-4]

Approval and Promulgation of Air Quality Implementation Plans; Pennsylvania; Conversion of the Conditional Approval of the 15 Percent Plan and 1990 VOC Emission Inventory for the Pittsburgh-Beaver Valley Ozone Nonattainment Area to a Full Approval

AGENCY: Environmental Protection Agency (EPA).

ACTION: Direct final rule.

SUMMARY: EPA is taking direct final action to convert its conditional approval of a State Implementation Plan (SIP) revision submitted by the Commonwealth of Pennsylvania to a full approval. This revision satisfies the 15 percent reasonable further progress plan (15% plan) requirements of the Clean Air Act (the Act) for the Metropolitan Pittsburgh-Beaver Valley ozone nonattainment area (the Pittsburgh area). EPA is converting its prior conditional approval of the Pittsburgh 15% plan to full approval because the Commonwealth submitted revisions to the SIP that satisfy the conditions listed in EPA's conditional approval. EPA is also taking direct final action to convert its prior conditional approval of the 1990 volatile organic compound (VOC) base year emissions inventory for the Pittsburgh area to a full approval. The intended effect of this action is to convert the conditional approval of the Commonwealth's 15% plan and its associated 1990 VOC base year inventory for the Pittsburgh area to a full approval. This action is being taken by EPA in accordance with the requirements of the Clean Air Act.

DATES: This rule is effective on June 4, 2001, without further notice, unless EPA receives adverse written comment by May 3, 2001. If EPA receives such comments, it will publish a timely withdrawal of the direct final rule in the Federal Register and inform the public that the rule will not take effect.

ADDRESSES: Written comments may be mailed to David L. Arnold, Chief, Air Quality Planning & Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103. They are also available at the Pennsylvania Department of Environmental Protection, Bureau of Air Quality, P.O. Box 8468, 400 Market Street, Harrisburg, Pennsylvania 17105.

FOR FURTHER INFORMATION CONTACT: Brian Rehn, by phone at: (215) 814-2176 (at the EPA Region III address above), or by e-mail at: rehn.brian@epa.gov.

SUPPLEMENTARY INFORMATION:

I. Background

On July 22, 1998, the Pennsylvania Department of Environmental Protection submitted a revision to the Pennsylvania State Implementation Plan (SIP) for the Pittsburgh-Beaver Valley moderate ozone nonattainment area (the Pittsburgh area). The Pittsburgh area consists of seven counties in Southwestern Pennsylvania (Allegheny, Armstrong, Butler, Beaver, Fayette, Washington, and Westmoreland Counties). The July 22, 1998 SIP revision submittal consists of amendments to the Commonwealth's plan to achieve a 15% reduction from 1990 base year levels in volatile organic compound (VOC) emissions. The previous 15% plan SIP submitted by Pennsylvania for the Pittsburgh area was conditionally approved by EPA on January 14, 1998 (63 FR 2147). The Commonwealth's July 1998 revision to the 15% plan for the Pittsburgh area was submitted to address the conditions imposed by EPA in its January 14, 1998 conditional approval of the 15% plan for the area.

These conditions were primarily related to one of the control measures in the SIP upon which the 15% plan is dependent for emissions reductions—the Pennsylvania enhanced inspection and maintenance (I/M) program. At the time EPA conditionally approved the 15% plan SIP, the Commonwealth's I/M SIP had also been conditionally approved. EPA also conditioned approval of the 15% plan because of inconsistencies in the emissions estimates for two point sources in the 1990 VOC base year inventory. Because the 1990 base year emissions inventory was conditionally approved for this reason, and because the 15% plan is calculated on the basis of the 1990 inventory, EPA also placed a similar inventory-related condition upon its approval of the 15% plan in its January 14, 1998 conditional approval.

EPA is converting the January 14, 1998 (63 FR 2147) conditional approval of Pennsylvania's 15% plan for the Pittsburgh nonattainment area to a full approval. The basis for this conversion from conditional to full approval is that Pennsylvania has remedied all the conditions imposed by EPA in its January 14, 1998 conditional approval action. The revised 15% plan emissions target level has been achieved through reductions for the measures claimed in the 15% plan.

II. How Pennsylvania's Revision Satisfies the Conditions Imposed by EPA in Its Conditional Approval

As stated above, the subject of this rulemaking is Pennsylvania's July 22, 1998 revision to the Pittsburgh 15% plan, submitted by the Commonwealth to address conditions imposed by EPA upon its January 14, 1998 approval of the original 15% plan and the 1990 baseline VOC emissions inventory submitted as part of that plan. As stated earlier, those conditions relate to the Federal approval status of the I/M program SIP (upon which the 15% plan relies), the modeled credits for the I/M program, and the 1990 VOC baseline emissions inventory (which is used in the calculation of the 15% reduction). Remodeling of the highway mobile source portion of the projected 1996 VOC emission inventory (i.e., I/M program credits remodeling) necessitates a re-evaluation of the 15% plan “target level” calculation. However, only those aspects of the revised target level calculation associated with the conditions of EPA's approval are the subject of this rulemaking action. For purposes of clarity, however, the entire calculation process is set forth below.

A. Base Year Emission Inventory

The baseline from which the required reductions towards the 15% plan goal are applied is the 1990 base year emission inventory. The first step in calculating a 15% target is a 1990 base year inventory. The inventory is broken down into four emissions source sectors: stationary, or point, sources; area sources; on-road, or highway, mobile sources; and off-highway, or non-road, mobile sources. The 1990 base year inventory includes emissions from all sources within the nonattainment area and certain large point sources within twenty-five miles of the boundary. For purposes of planning reasonable further progress towards attainment (e.g., 15% planning), a subset of the 1990 base year inventory is used. This 1990 rate-of-progress (ROP) inventory includes only anthropogenic emissions that occurred within the boundaries of the subject nonattainment area. EPA conditioned approval of Pennsylvania's 1990 base year inventory SIP revision (and the 15% plan, which is dependent upon the 1990 base year inventory) for Pittsburgh on January 14, 1998 (63 FR 2147). The basis for EPA's approval condition was that the inventory lacked final estimates for two stationary VOC emissions sources—J&L Specialty Steel, Inc. and Indspec Chemical Corp. Pennsylvania submitted final estimates for these two sources as part of a July 22, 1998 revised 15% plan SIP. As a result of this revision, the 1990 base year inventory now includes J & L Specialty Steel—Midland's 1990 VOC emissions of 850.4 pounds per day, and Indspec Chemical—Petrolia's 1990 VOC emissions of 1022.4 pounds per day. The result is an overall addition to 1990 point source VOC emissions of 0.90 tons per day from the level EPA conditionally approved on January 14, 1998. This revised inventory serves as the basis for calculation of the 15% plan target level, for purposes of achieving the required 15% VOC reduction. A comparison of the differences between the conditionally approved 1990 base year inventory and the revised base year inventory is provided in the technical support document (TSD) prepared for this action.

B. Growth in Emissions Between 1990 and 1996

EPA interprets the Clean Air Act to require that reasonable further progress towards attainment of the ozone standard must occur after offsetting any growth in the level of emissions expected to occur over the period being considered. To meet the 15% reasonable further progress requirement, a state must enact measures to offset projected growth in VOC emissions, in addition to a 15% reduction of 1996 VOC emissions (compared with 1990 levels). EPA approved the Commonwealth's emission growth estimates and imposed no conditions related to those estimates in its January 14, 1998 conditional approval of the 15% plan for the Pittsburgh area. A detailed description of the growth methodologies used by Pennsylvania can be found in the January, 14 1998 conditional approval and in the TSD prepared for that rulemaking.

C. 15% Plan Emissions Control Measures and Their Associated Emissions Reductions

The remaining conditions imposed by EPA in its January 14, 1998 conditional approval of the Pittsburgh 15% plan relate to the enhanced I/M program. The first of these conditions related to the approval status of the I/M program at the time EPA took action on the 15% plan. Because the I/M program was conditionally approved, the 15% plan had to be conditionally approved to require that Pennsylvania “meet the conditions listed in the January 28, 1997 conditional interim inspection and maintenance (I/M) rulemaking (approval) notice”. The other I/M-related condition required Pennsylvania to remodel the I/M reductions claimed in the plan, using an EPA guidance memoranda entitled, “Modeling 15 Percent VOC Reductions from I/M in 1999—Supplemental Guidance”, from Gay McGregor and Sally Shaver, dated December 23, 1996. This EPA policy memo (along with another entitled, “Date by which States Need to Achieve All the Reductions Needed for the 15 Percent Plan from I/M and Guidance for Recalculation,” from John Seitz and Margo Oge, dated August 13, 1996) provided EPA's guidance on how to take credit for I/M in light of program implementation delays that caused programs to start after the 1996 deadline for achieving the 15% reduction in VOCs.

With respect to the approval status of its I/M program SIP, Pennsylvania has since revised its I/M program SIP, and the revised I/M SIP was fully approved by EPA on June 17, 1999 (64 FR 32411). Therefore, the condition on the 15% plan related to conditions imposed by EPA in our prior approval of the I/M SIP has now been remedied. With respect to the 15% plan approval condition related to emissions reductions from the I/M program, Pennsylvania has addressed this condition by remodeling the benefits of the I/M program (per EPA's guidance), and submitting that remodeling analysis as part of its July 22, 1998 revised 15% plan SIP. A discussion of the resultant recalculation of the highway mobile source emissions and the revised 15% plan target levels associated with this remodeling are discussed later in this document. EPA believes that Pennsylvania has properly followed EPA guidance in conducting this remodeling analysis.

D. Target Level/Emission Reductions Needed for the 15% Reduction

As part of its remodeling analysis to determine needed reductions toward the 15% plan from I/M, Pennsylvania remodeled the benefits from all of its 15% plan control measures that reduce highway source emissions (i.e., those modeled using the MOBILE emission factor model). In addition to the enhanced I/M program, this includes the 15% plan reductions from post-1990 emissions standards for new cars and light-duty trucks. These standards, which are part of the Federal Motor Vehicle Control Program (FMVCP), are commonly referred to as the “Tier 1” emissions standards. EPA concurs with the Commonwealth's remodeling demonstration as submitted in the July 22, 1998 revised 15% plan SIP. This revised plan properly accounts for the “target level” of 1996 emissions, with which projections of 1996 “controlled” emissions are then compared. EPA also concurs with the revised mobile source target level calculation for the Pittsburgh area, and the resultant overall corrected target level. The overall corrected target level is 312.94 tons per day (tpd). A description of the revised target level calculation process is summarized below, and in more detail in the TSD prepared by EPA for this rulemaking action.

E. Summary of the Revised Target Level Calculation / I/M Remodeling Process

EPA's interpretation of section 182(b) of the Clean Air Act requires states to adjust the base year VOC emission inventory for the 15% plan to account for non-creditable VOC reductions (i.e., that were required to occur prior to the 1990 Clean Air Act Amendments). In calculating its target level, reductions that occurred between 1990 and 1996 from the pre-1990 FMVCP and low-RVP gasoline programs are subtracted from the 1990 15% plan base inventory. The result is the “1990 base year inventory adjusted to 1996.”

EPA's applicable remodeling guidance requires that the base year inventory be calculated, relative both to 1996 and to 1999. The base year inventory (relative to 1999) must then be adjusted in the same way to remove non-creditable, pre-1990 control measure reductions from the inventory for the period from 1990 to 1999. Pennsylvania's 15% plan contains the required calculation of the non-creditable reductions that occurred between 1996 and 1999. That non-creditable reduction must then be subtracted from the 1990 15% plan base year inventory. The result is the “1990 base year inventory adjusted to 1999.” Pennsylvania then calculated a “base” 1996 VOC target level by taking 85% of the 1990 adjusted base year inventory for 1996. This base target level is then corrected by subtracting the previously calculated non-creditable reductions from the “base” 1996 VOC target level to yield the final 1996 VOC target level for the 15% plan. See Table 1 below, for a summary of the calculation of the target level.

Table 1.—Required Reductions for the Pittsburgh-Beaver Valley Metropolitan Ozone Nonattainment Area 15% Plan (tons/day)
[Revised 15% Plan Target Level / I/M Remodeling Calculation]
Steps | Calculation method | Tons per day (tpd)
1990 Rate-of-Progress Base Year Inventory |  | 403.79
1. Calculate the 1990 base year inventory (relative to 1996) | [1996 MOBILE factor (w/ CAA controls off) × 1990 VMT] + non-mobile 1990 inventory | 374.92
2. Calculate the 1996 base year inventory (relative to 1999) | [1999 MOBILE factor (w/ CAA controls off) × 1990 VMT] + non-mobile 1990 inventory | 369.18
3. Calculate non-creditable fleet turnover between 1996 and 1999 | 1990 base (for 1996) − 1990 base (for 1999); or, (Step 2 − Step 1) | 5.74
4. Calculate the “base” 1996 target level | 1990 adjusted base (for 1996) × 0.85 − RACT Fix-Ups; or, (Step 1 × 0.85) − RACT fix-ups (if any) | 318.68
5. Calculate the “final” 1996 target level | 1996 target level−non-creditable 1996-1999 emissions; or, (Step 4 − Step 3) | 312.94
6. Projected 1996 Controlled Inventory (as remodeled) | remodeled highway emissions + remainder of existing 1996 projected inventory (i.e., point, area, non-road emissions) [95.07 ¹ + 61.61 + 117.53 + 29.14] | 303.35
¹ Pennsylvania July 22, 1998 SIP revision lists 1996 controlled highway emissions of 102.45 tons per day in an introductory SIP target calculation summary table. However, supporting information contained in appendices to the SIP documents this figure as 95.07 tons per day. EPA believes the 102 tpd figure is an error, and is proposing to approve the SIP based upon the 95 tpd figure. Use of either figure, however, would not jeopardize the ability of the plan to achieve the required 15% reduction.

The revised 15% plan provides for sufficient VOC emissions reductions to meet the calculated 15% plan “target level” of emissions—i.e., the revised 15% SIP demonstrates emissions will fall below 303.3 tons per day versus the calculated target level of 312.9 tons per day. EPA is approving this final, corrected target level for the Pittsburgh-Beaver Valley 15% plan.

The Commonwealth's July 22, 1998 revised 15% SIP has satisfied the conditions listed by EPA in its January 14, 1998 (63 FR 2147) conditional approval of the Pittsburgh 15% plan and its underlying 1990 base year VOC emissions inventory.

F. Determination That Revised 15% Plan Achieves Reasonable Further Progress

As part of the 15% plan I/M remodeling process the base year VOC inventory, target level, and projected reduction levels from the control measures claimed in the15 % plan have been recalculated since EPA granted conditional approval to the SIP in January of 1998. As part of its revision to the 15% plan SIP, the Commonwealth demonstrated that the control measures in the 15% plan originally approved by EPA continue to ensure sufficient reductions are achieved to meet the revised target level. Under the revised plan, the emissions reductions claimed for the Pittsburgh 15% plan increased from 65.68 tons per day (from the prior conditionally approved SIP) to 74.79 tons per day.

EPA agrees with the Commonwealth's calculations and methodology used in the revised plan to justify this number. EPA supports the Commonwealth's emissions reductions claimed for the control measures in the 15% plan. Pennsylvania properly employed EPA's guidance in calculating its revised 15% plan target and in meeting that target. EPA, therefore, concurs that Pennsylvania must achieve at least 70.17 tons per day in creditable emission reductions to demonstrate that the Pittsburgh-Beaver Valley ozone nonattainment area has met its 15% VOC reduction requirement. EPA has determined that Pennsylvania's revised 15% plan has sufficient reductions (from creditable control measures) to achieve the required 15% reduction. Pennsylvania claims 74.79 tons per day of creditable reductions, which is sufficient to ensure that reasonable further progress is achieved.

Table 2 below summarizes the creditable measures, and the reductions associated with those measures, for Pennsylvania's 15% plan for the Pittsburgh area. It should be noted that these constitute the same measures that EPA approved in our January 14, 1998 conditional approval of the Pittsburgh 15% plan. However, due to the I/M remodeling analysis, the level of credits associated with the highway mobile source control measures (i.e., the I/M program and Tier 1 motor vehicle emissions standards) has changed. Because these measures and credit levels were approved by EPA previously, this rulemaking action applies only to the revised credit levels associated with the highway mobile source controls.

Table 2.—Summary of Control Measures for the 15% Plan for the Pittsburgh-Beaver Valley Ozone Nonattainment Area
Control measure | Approved by EPA | VOC reduction (tons per day)
Highway Mobile Source Control Measures:
Enhanced I/M Program | SIP approved [June 17, 1999 (64 FR 32411)] | 17.08
Tier 1 Motor Vehicle Standards (post-1990 FMVCP) | Federal rule | 10.56
Non-Highway Measures (Point, Area, Non-road):
Benzene National Emission Standard for Hazardous Air Pollutant (NESHAP) | Federal rule | 35.20
AIM Coatings Reformulation | Federal rule | 5.05
Consumer & Commercial Products Reformulation | Federal rule | 4.35
Autobody Refinishing Reformulation | Federal rule | 2.55
Total Creditable Emission Reductions |  | 74.79

G. Transportation Conformity Budgets

As is the case with any 15% plan, Pennsylvania's 15% plan for its portion of the Pittsburgh-Beaver Valley ozone nonattainment area contains a budget for VOC emissions from on-road mobile sources. However, this budget would be superceded by subsequent plan submittals (e.g., the budget contained in a maintenance plan).

For the most recent information of the motor vehicle budget that applies to the Pittsburgh area, please consult EPA's “Adequacy Review of SIP Submissions for Conformity” web page at http://www.epa.gov/oms/transp/conform/adequacy.htm, or contact the EPA Regional office listed in the ADDRESSES section above.

III. Final Action

EPA is converting its January 14, 1998 (63 FR 2147) conditional approval of the 15% plan and the 1990 VOC emission inventory for the Pittsburgh-Beaver Valley ozone nonattainment area to a full approval. EPA's review of Pennsylvania's July 22, 1998 revision to the 15% plan SIP for the Pittsburgh area indicates that the Commonwealth has remedied all the conditions imposed by EPA in its January 14, 1998 conditional approval (63 FR 2147) of the Pittsburgh area 15% plan including the condition imposed on its approval of the 1990 base year VOC emission inventory for the Pittsburgh area.

EPA is publishing this rule without prior proposal because the Agency views the conversion of its conditional approval of the Pittsburgh area's 15% plan and its associated 1990 base year VOC emission inventory to a full approval as noncontroversial and anticipates no adverse comment. The Commonwealth has satisfied the conditions imposed in EPA's January 14, 1998 conditional approval and has followed all applicable EPA guidance in doing so. However, in the “Proposed Rules” section of today's Federal Register, EPA is publishing a separate document that will serve as the proposal to convert its conditional approval of the Pittsburgh area's 15% plan and its associated 1990 base year VOC emission inventory to a full approval if adverse comments are filed. This rule will be effective on June 4, 2001, without further notice unless EPA receives adverse comment by May 3, 2001. If EPA receives adverse comment, EPA will publish a timely withdrawal in the Federal Register informing the public that the rule will not take effect. EPA will address all public comments in a subsequent final rule based on the proposed rule. EPA will not institute a second comment period on this action. Any parties interested in commenting must do so at this time.

IV. Administrative Requirements

A. General Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this direct final approval action to convert the January 14, 1998 conditional approval (63 FR 2147) of the Commonwealth's 15% plan and its associated 1990 base year VOC emission inventory for the Pittsburgh-Beaver Valley area must be filed in the United States Court of Appeals for the appropriate circuit by June 4, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Intergovernmental relations, Reporting and recordkeeping requirements.

Dated: March 22, 2001.
W.C. Early,
Acting Regional Administrator, Region III.

40 CFR part 52 is amended as follows:

PART 52—[AMENDED]

1. The authority citation for part 52 continues to read as follows:

Authority: 42 U.S.C. 7401 et seq.

Subpart NN—Pennsylvania

2. Section 52.2026(d) and (e) are removed and reserved.

3. In section 52.2036, paragraph (d) is added to read as follows:

§ 52.2036 1990 Baseyear Emissions Inventory.

* * * * *

(d) EPA grants full approval to the 1990 VOC emission inventory for the Pittsburgh ozone nonattainment area, which was provided by Pennsylvania as an element of a March 22, 1996 submittal of the 15 Percent Rate-of-Progress Plan for the Pittsburgh-Beaver Valley ozone nonattainment area. Supplemental 1990 VOC inventory information and estimates were submitted by the Secretary of the Department of Environmental Protection on February 19, 1997 and on July 22, 1998, as formal amendments to the Pittsburgh 15 Percent Plan for Pittsburgh. EPA grants full approval to the final 1990 VOC emissions inventory estimates contained in Pennsylvania's July 22, 1998 SIP revision (which serves to supplement the 1990 VOC inventory information contained in Pennsylvania's March 22, 1996 and February 19, 1997 Pittsburgh-Beaver Valley 15% plan SIP revisions). The approved plan contains 1990 base year point, area, highway, and non-road mobile VOC emissions estimates for the 7-county Pittsburgh-Beaver Valley ozone nonattainment area (Allegheny, Armstrong, Beaver, Butler, Fayette, Washington, and Westmoreland Counties).

* * * * *

4. Section 52.2038 is added to read as follows:

§ 52.2038 Rate of Progress Plans: ozone.

EPA grants full approval to Pennsylvania's 15 Percent Rate of Progress Plan for the Pittsburgh-Beaver Valley ozone nonattainment area, submitted by the Secretary of the Pennsylvania Department of Environmental Protection on March 22, 1996, as formally revised on February 18, 1997 and on July 22, 1998.

[FR Doc. 01-8021 Filed 4-2-01; 8:45 am]

BILLING CODE 6560-50-U